DEPARTMENT OF JUSTICE

Antitrust Division

Notice Pursuant to the National Cooperative Research and Production Act of 1993—International Electronics Manufacturing Initiative

Notice is hereby given that, on June 13, 2013, pursuant to Section 6(a) of the National Cooperative Research and Production Act of 1993, 15 U.S.C. 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, Arizona State University, Tempe, AZ; Aalto University, Finland, SWITZERLAND; CALCE, College Park, MD; Atotech USA, Rock Hill, SC; Fraunhofer IZM, Berlin, GERMANY; Samsung Electro-Mechanics Co., LTD, Gyeonggi-Do, REPUBLIC OF KOREA; AT&S, Leoben, AUSTRIA; ASSET, Richardson, TX; Emerson Network Power, Columbus, OH; Fiber QA, Old Lyme, CT; Griffith University, Brisbane, Queensland, AUSTRALIA; Akrometrix, Atlanta, GA; Assembléon, LA Veldhoven, THE NETHERLANDS; Doosan Corp. Electro-Materials BG, Yongin, Kyonggi-do, REPUBLIC OF KOREA; and Hillcrest Laboratories, Rockville, MD, have been added as parties to this venture.

Also, Foxconn, Taipei Hsien, TAIWAN; and Quanta Computer, Tao Yuan Shine, TAIWAN, have withdrawn as parties to this venture.

In addition, Tyco Electronic, Kawasaki, Kanagawa, JAPAN, has changed its name to TE Connectivity, Kawasaki, Kanagawa, JAPAN. Cookson Electronics, South Plainfield, NJ, has been acquired by Alnet, South Plainfield, NJ; and Research in Motion, Waterloo, Ontario, CANADA, has been acquired by Blackberry, Waterloo, Ontario, CANADA.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on December 15, 2009. A notice was published in the Federal Register pursuant to Section 6(b) of the Act on January 19, 2010 (75 FR 2889).

Patricia A. Brink,
Director of Civil Enforcement, Antitrust Division.

[FR Doc. 2013-17233 Filed 7-17-13; 8:45 am]

BILLING CODE 4410-11-P